DEPARTMENT OF THE INTERIOR

Fish and Wildlife Service

Notice of Availability of a Reconsideration of an Environmental Assessment/Habitat Conservation Plan for Issuance of an Incidental Take Permit for the Construction and Operation of a Mixed-Use Development on a Portion of the 216-Acre Hart Triangle Property, Travis County, Texas.

SUMMARY: GDF Realty Investments Ltd. and Purcell Investments, L.P. (Landowners; Applicants) had applied to the U.S. Fish and Wildlife Service (Service) for seven incidental take permits for the Hart Triangle Property pursuant to Section 10(a) of the Endangered Species Act (Act). These permits were denied because the applications did not meet the statutory criteria for issuance. The EA/HCP made available by this notice is a draft EA/HCP that encompasses the entire area that was covered by the seven original permit applications. This EA/HCP was prepared by the Service based on information provided by the Applicants and other information acquired by the Service. The Applicants have been assigned permit number TE-027690-0. The permit, which is for a period of 30 years, would authorize the incidental take of the endangered golden-cheeked warbler (Dendroica chrysoparia), and five karst invertebrates: Tooth Cave pseudoscorpion (Tararocreagris texana), Kretschmarr Cave mold beetle (Texamaurops reddelli), Bone Cave harvestman (Texella reyesi), Tooth Cave spider (Neoleptoneta myopica), and Tooth Cave ground beetle (Rhadine persephone). The proposed take would occur as a result of the construction and operation of mixed-use development on a portion of the 216-acre Hart Triangle property, Travis County, Texas.

The Service has prepared the Environmental Assessment/Habitat Conservation Plan (EA/HCP) for the incidental take application. A determination of jeopardy to the species or a Finding of No Significant Impact (FONSI) will not be made until at least 30 days from the date of publication of this notice. This notice is provided pursuant to Section 10(c) of the Act and National Environmental Policy Act regulations (40 CFR 1506.6).

DATES: Written comments on this draft EA/HCP should be received on or before July 3, 2000.

ADDRESSES: Persons wishing to review the EA/HCP may obtain a copy by written or telephone request to Sybil Vosler, U.S. Fish and Wildlife Service, Ecological Services Office, 10711 Burnet Road, Suite 200, Austin, Texas 78758 (512/490-0057). Documents will be available for public inspection by written request or by appointment only during normal business hours (8:00 to 4:30) at the U.S. Fish and Wildlife Service Office, Austin, Texas. Data or comments concerning the EA/HCP should be submitted in writing to the Field Supervisor, U.S. Fish and Wildlife Service Office, Austin, Texas at the above address. Please refer to permit number TE-027690-0 when submitting comments.

FOR FURTHER INFORMATION CONTACT: Sybil Vosler at the above U.S. Fish and Wildlife Service Office, Austin, TX.

SUPPLEMENTARY INFORMATION: Section 9 of the Act prohibits the “taking” of endangered species such as the golden-cheeked warbler or the listed karst invertebrates. However, the Service, under limited circumstances, may issue permits to take endangered wildlife species incidental to, and not the purpose of, otherwise lawful activities. Regulations governing permits for endangered species are at 50 CFR 17.22.

Applicants

GDF Realty Investments Ltd. and Purcell Investments, L.P., plan to construct and operate a mixed-use development on the 216-acre Hart Triangle property. The Service, after denying the original seven applications, has developed the draft EA/HCP for the issuance of this permit. Two alternatives were developed. The Preferred Alternative 1 has two Options A and B. Alternative 1, Option A, includes a 75-acre karst preserve, a 77-acre golden-cheeked warbler preserve, and 64 acres for residential and commercial development, roads, and utilities. Preferred Alternative 1, Option B, includes a 75-acre karst preserve, a 36-acre golden-cheeked warbler preserve, and 105 acres for residential and commercial development, roads, and utilities. The action in Alternative 1, Option A, would eliminate approximately 16 acres of habitat and indirectly impact 23 additional acres of golden-cheeked warbler habitat. The action in Alternative 1, Option B, would eliminate approximately 55 acres of habitat and indirectly impact 45 additional acres of golden-cheeked warbler habitat.

Since the preferred alternative Options were developed to promote the long-term viability of the karst ecosystems, there would be minimal impacts to the listed karst species. However, some take of endangered karst invertebrates could occur during construction activities in the development area if voids containing the listed species are encountered during construction. The draft EA/HCP proposes to compensate for the incidental take of golden-cheeked warbler habitat by donating through fee simple or conservation easement to Travis County or other approved management entity, 77 acres of the Hart Triangle property (Preferred Alternative 1, Option A) or donating 35 acres on-site and purchasing 220 acres of golden-cheeked warbler habitat off-site (Preferred Alternative 1, Option B). This land is adjacent to the existing Balcones Canyonlands Preserve and will be managed by Travis County, or another conservation entity approved by the Service, as a preserve. Although impacts to the listed karst invertebrates are expected to be minimal, the draft EA/HCP proposes that the Landowners will sell or donate a 75-acre karst preserve to Travis County or another entity approved by the Service that will preserve and manage the preserves in perpetuity for either Preferred Alternative 1, Option A or Preferred Alternative 1, Option B.

Other alternatives to this action were rejected because not developing the subject property with federally listed species present was not economically feasible for the Landowners, and other alterations of the project design increased the level of impacts to the endangered species present on the property.

Nancy M. Kaufman,
Regional Director, Region 2, Albuquerque, New Mexico.

[FR Doc. 00-13933 Filed 5-31-00; 11:04 am]

BILLING CODE 4510-55-P